DEPARTMENT OF HEALTH AND HUMAN SERVICES

Centers for Medicare and Medicaid Services

42 CFR Part 413

Principles of Reasonable Cost Reimbursement; Payment for End-Stage Renal Disease Services; Prospectively Determined Payment Rates for Skilled Nursing Facilities

CFR Correction

In Title 42 of the Code of Federal Regulations, Parts 400 to 429, revised as of October 1, 2001, § 413.86 is corrected, on page 525, by revising the designation (e)(4)(ii)(C)(2)(iii) to read (e)(4)(ii)(C)(2)(iii) and by adding (e)(4)(ii)(C)(2) introductory text, (i), and (ii) to read as follows:

§ 413.86 Direct graduate medical education payments.

* * * * *

(e)* * *

(4)* * *

(ii)* * *

(C)* * *

(2) Ceiling. If the hospital's per resident amount is greater than 140 percent of the locality-adjusted national average per resident amount, the per resident amount is adjusted as follows for FY 2001 through FY 2005:

(i) FY 2001. For cost reporting periods beginning on or after October 1, 2000 and on or before September 30, 2001, if the hospital's FY 2000 per resident amount exceeds 140 percent of the FY 2001 locality-adjusted national average per resident amount (as calculated under paragraph (e)(4)(ii)(B) of this section), then, subject to the provision stated in paragraph (e)(4)(ii)(C)(2)(iv) of this section, the hospital's per resident amount is frozen at the FY 2000 per resident amount and is not updated for FY 2001 by the CPI-U factor.

(ii) FY 2002. For cost reporting periods beginning on or after October 1, 2001 and on or before September 30, 2002, if the hospital's FY 2001 per resident amount exceeds 140 percent of the FY 2002 locality-adjusted national average per resident amount, then, subject to the provision stated in paragraph (e)(4)(ii)(C)(2)(iv) of this section, the hospital's per resident amount is frozen at the FY 2001 per resident amount and is not updated for FY 2002 by the CPI-U factor.

* * * * *

[FR Doc. 02-55519 Filed 9-30-02; 8:45 am]

BILLING CODE 1505-01-D